DEPARTMENT OF JUSTICE

Drug Enforcement Administration

Rick Joe Nelson, M.D.; Revocation of Registration

On April 6, 2000, the Administrator of the Drug Enforcement Administration (DEA), issued an Order to Show Cause (OTSC) by certified mail to Rick Joe Nelson, M.D., notifying him of a preliminary finding that, pursuant to evidence set forth therein, he was responsible for the diversion of large quantities of controlled substances into other than legitimate medical channels, and additionally no longer possessed authority to either handle controlled substances or to practice medicine in Oklahoma, the State in which he held a DEA registration. Based on these preliminary findings, and pursuant to 21 U.S.C. 824(d) and 28 CFR 0.100 and 0.104, the OTSC suspended Dr. Nelson's DEA Certificate of Registration, effective immediately, with such suspension to remain in effect until a final determination in these proceedings is reached. The OTSC informed Dr. Nelson of an opportunity to request a hearing to show cause as to why the DEA should not revoke his DEA Certificate of Registration, BN1075224, and deny any pending applications for renewal or modification of such registration, for reason that such registration is inconsistent with the public interest, as determined by 21 U.S.C. 823(f). The OTSC also notified Dr. Nelson that, should no request for hearing be filed within 30 days, his right to a hearing would be considered waived.

On April 6, 2001, a copy of the OTSC was personally served by two DEA Diversion Investigators upon Dr. Nelson's attorney. No request for a hearing or any other response was received by DEA from Dr. Nelson or anyone purporting to represent him in this matter, however. Therefore, the Administrator of the DEA, finding that (1) thirty days have passed since receipt of the Order to Show Cause, and (2) no request for a hearing having been received, concludes Dr. Nelson is deemed to have waived his right to a hearing. After considering relevant material from the investigative file in this matter, the Administrator now enters his final order without a hearing pursuant to 21 CFR 1301.43(d) and (e) and 1301.46 (1999).

The Administrator finds that based on an investigation by the Oklahoma and State Board of Medical Licensure and Supervisor, by use of a pharmacy internet web site, Dr. Nelson issued prescriptions for controlled substances without personally seeing or physically examining patients. During the single week of October 25, 2000, to November 2, 2000, Dr. Nelson authorized 1,684 prescriptions, of which 1,651 were for controlled substances. These prescriptions were not issued in the usual course of medical practice, in violation of 21 CFR 1306.04.

On December 14, 2000, Dr. Nelson agreed with the Oklahoma State Board of License and Supervision (Board) to refrain from issuance of further prescriptions to internet customers. Despite this agreement, at least eight refills and new prescriptions for controlled substances attributed to Dr. Nelson continued to be filled. The Board also learned that Dr. Nelson had prescribed drugs for three separate internet web sites.

On February 12, 2001, the Oklahoma Bureau of Narcotics and Dangerous Drug Control (Bureau) suspended Dr. Nelson's State narcotic registration, in part on the grounds that his registered address was in actuality a postal mail box facility, not a place of professional practice. The Bureau also learned that Dr. Nelson had provided a false social security number and date of birth in the application that he made with the Bureau.

On March 1, 2001, the Oklahoma State Board of Medical License and Supervisions issued an Order of Emergency Suspension suspending Dr. Nelson's medical license, in part based on a finding that he could not practice medicine with a reasonable degree of safety, competency, and skill sufficient to protect the public health, safety, and welfare.

On the basis of this evidence, by the OTSC dated April 6, 2001, the Administrator of the DEA made the preliminary findings that Dr. Nelson was responsible for the diversion of large quantities of controlled substances into other than legitimate channels, and further that Dr. Nelson's violation of the December 14, 2000, agreement with the Board demonstrated that Dr. Nelson will continue to assist in the diversion of controlled substances. Therefore, pursuant to 21 U.S.C. 824(d), the Administrator of the DEA issued an immediate suspension of Dr. Nelson's DEA Certificate of Registration.

While the above-cited evidence provides ample grounds for an immediate suspension pursuant to section 824(d), these grounds also provide the basis for the revocation of Dr. Nelson's DEA Certificate of Registration. There is no evidence in the investigative file that Dr. Nelson's medical license has been reinstated since the March 1, 2001, Emergency Suspension by the Board. Therefore, the Administrator finds that Dr. Nelson is not currently authorized to practice medicine in the State of Oklahoma. Additionally, since there is no evidence that the suspension of Dr. Nelson's State narcotics registration has been lifted, the Administrator finds that Dr. Nelson also is not authorized to handle controlled substances in that State.

The DEA does not have the statutory authority pursuant to the Controlled Substances Act to issue or to maintain a registration if the applicant or registrant is without state authority to handle controlled substances in the state in which he conducts his business. See 21 U.S.C. 802(21), 823(f), and 824(a)(3). This prerequisite has been consistently upheld in prior DEA cases. See Frank R. Pennington, M.D., 66 FR 15,762 (DEA 2001); Romeo J. Perez, M.D., 62 FR 16,193 (DEA 1997); Demetris A. Green, M.D., 61 FR 60,728 (DEA 1996); Dominick A. Ricci, M.D., 58 FR 51,104 (DEA 1993). Here it is clear that Dr. Nelson is not currently authorized to handle controlled substances in the State of Oklahoma. As a result, he is not entitled to a DEA registration in that State.

Accordingly, the Administrator of the Drug Enforcement Administration, pursuant to the authority vested in him by 21 U.S.C. 823 and 824 and 28 CFR 0.100(b) and 0.104, hereby orders that DEA Certificate of Registration BN1075224, previously issued to Rick Joe Nelson, M.D., be, and it hereby is, revoked. This order is effective July 6, 2001.

Dated: May 31, 2001.
Donnie R. Marshall,
Administrator.

[FR Doc. 01-14292 Filed 6-6-01; 8:45 am]

BILLING CODE 4410-09-M